DEPARTMENT OF AGRICULTURE

Forest Service

Fresno County Resource Advisory Committee

AGENCY: Forest Service, USDA.

ACTION: Notice of meeting.

SUMMARY: The Fresno County Resource Advisory Committee will meet in Clovis, California. The purpose of the meeting is to discuss and to recommend project proposals for FY2004 funds regarding the Secure Rural Schools and Community Self-Determination Act of 2000 (Pub. L. 106-393) for expenditure of Payments to States Fresno County Title II funds.

DATES: The meeting will be held on January 13, 2004, from 6:30 p.m. to 9:30 p.m.

ADDRESSES: The meeting will be held at the Supervisors Office, Sierra National Forest, 1600 Tollhouse, Clovis, California 93611. Send written comments to Robbin Ekman, Fresno County Resource Advisory Committee Coordinator, c/o Sierra National Forest, High Sierra Ranger District, 29688 Auberry Road, Prather, CA 93651 or electronically to rekman@fs.fed.us.

FOR FURTHER INFORMATION CONTACT: Robbin Ekman, Fresno County Resource Advisory Committee Coordinator, (559) 855-5355, ext. 3341.

SUPPLEMENTARY INFORMATION: The meeting is open to the public. Committee discussion is limited to Forest Service staff and Committee members. However, persons who wish to bring Payments to States Fresno County Title II project matters to the attention of the Committee may file written statements with the Committee staff before or after the meeting.

Public sessions will be provided and individuals who made written requests by January 13, 2004, will have the opportunity to address the Committee at those sessions. Agenda items to be covered include: (1) Call for new projects; (2) Status report from project recipients; and (3) Public comment.

Dated: December 4, 2003.
Ray Porter,
District Ranger.

[FR Doc. 03-30685 Filed 12-10-03; 8:45 am]

BILLING CODE 3410-11-M